NUCLEAR REGULATORY COMMISSION

[Docket No. 70-754]

General Electric Company—Vallecitos Nuclear Center: Notice of Consideration of Approval of Transfer of Special Nuclear Material License and Conforming Amendment and Opportunity for Hearing

AGENCY: Nuclear Regulatory Commission.

ACTION: Notice of consideration of approval of transfer of special nuclear material license and conforming amendment and opportunity for hearing.

DATES: Requests for a hearing must be filed by April 19, 2007. Comments must be provided by April 30, 2007.

FOR FURTHER INFORMATION CONTACT: Mary T. Adams, Senior Project Manager, Fuel Manufacturing Branch, Division of Fuel Cycle Safety and Safeguards, Office of Nuclear Material Safety and Safeguards, U.S. Nuclear Regulatory Commission (NRC), Washington, DC 20555. Telephone: (301) 415-7249; fax number: (301) 415-5955; e-mail: mta@nrc.gov.

SUPPLEMENTARY INFORMATION:

I. Introduction

The Nuclear Regulatory Commission (the Commission) is considering approval of an application (the application) from General Electric Company (GE), submitted on January 19, 2007, for consent to direct transfer of Special Nuclear Material License-960 (SNM-960), currently held by GE to GE-Hitachi Nuclear Energy Americas, LLC. The application was supplemented by letters dated January 25, 2007, February 23, 2007, and March 2, 2007. The Commission is also considering amending the license for administrative purposes to reflect the proposed transfer. Renewed License No. SNM-960 was issued on September 14, 2000, to GE under 10 CFR Part 70, and authorizes GE to possess and use specified licensed material at the Vallecitos Nuclear Center located near Pleasanton, California.

According to the application for approval, and supplements filed by GE, GE-Hitachi Nuclear Energy Americas, LLC, a newly formed entity, would acquire ownership of the facilities following approval of the proposed license transfer, and would be responsible for the operation and maintenance of the facilities. This new entity will be wholly owned by GE-Hitachi Nuclear Energy Holdings, LLC, created as a parent company. A U.S. subsidiary or subsidiaries of Hitachi Ltd., a Japanese company, will hold a 40% ownership interest. GE, through various subsidiaries, will hold a 60% ownership interest.

The proposed amendment would replace references to GE in the license with references to GE-Hitachi Nuclear Energy Americas, LLC., to reflect the proposed transfer.

Pursuant to 10 CFR 70.36, no right to possess or utilize special nuclear material granted by any license, issued pursuant to the regulations in Part 70 shall be transferred, assigned or in any manner disposed of, either voluntarily or involuntarily, directly or indirectly, through transfer of control of any license, to any person, unless the Commission shall, after securing full information, find that the transfer is in accordance with the provisions of the Atomic Energy Act of 1954, as amended, and shall give its consent in writing. The Commission will approve an application for the transfer of a license if the Commission determines that the proposed transferee is qualified to hold the license, and that the transfer is otherwise consistent with applicable provisions of law, regulations, and orders issued by the Commission pursuant thereto. An Environmental Assessment (EA) will not be performed because this action is categorically excluded from the requirement to perform an EA pursuant to 10 CFR 51.22(c)(21).

Before issuance of the proposed conforming license amendment, the Commission will have made findings required by the Atomic Energy Act of 1954, as amended, and the Commission's regulations.

II. Opportunity To Request a Hearing

In accordance with the general requirements in Subparts C and M of 10 CFR Part 2, any person whose interest may be affected by this proceeding, and who desires to participate as a party, must file a written request for a hearing and a specification of the contentions which the person seeks to have litigated in the hearing.

In accordance with 10 CFR 2.309(b)(1), to be timely, hearing requests and petitions to intervene must be filed no later than April 19, 2007.

Requests for a hearing and petitions for leave to intervene should be filed in accordance with the Commission's rules of practice set forth in Subpart C of 10 CFR Part 2. In particular, such requests and petitions must comply with the requirements set forth in 10 CFR 2.309. Untimely requests and petitions may be denied, as provided in 10 CFR 2.309(c)(1), unless good cause for failure to file on time is established. In addition, an untimely request or petition should address the factors that the Commission will also consider, in reviewing untimely requests or petitions, set forth in 10 CFR 2.309(c)(1)(I)-(viii)

Requests for a hearing and petitions for leave to intervene should be served upon Mr. Donald J. Silverman, Morgan Lewis & Bockius, LLP, 1111 Pennsylvania Avenue, NW., Washington, DC 20004 (tel: 202-739-5502; e-mail: dsilverman@morganlewis.com; fax: 202-739-3001); the General Counsel, U.S. Nuclear Regulatory Commission, Washington, DC 20555-0001 (e-mail address for filings regarding license transfer cases only: OGCLT@NRC.gov); and the Secretary of the Commission, U.S. Nuclear Regulatory Commission, Washington, DC 20555-0001, Attention: Rulemakings and Adjudications Staff, in accordance with 10 CFR 2.302 and 2.305.

The Commission will issue a notice or order granting or denying a hearing request or intervention petition, designating the issues for any hearing that will be held and designating the Presiding Officer. A notice granting a hearing will be published in the Federal Register and served on the parties to the hearing.

III. Opportunity To Provide Written Comments

In accordance with 10 CFR 2.1305, as an alternative to requests for hearing and petitions to intervene, comments with respect to this action should be provided in writing by April 30, 2007. The Commission will consider and, if appropriate, respond to these comments, but such comments will not otherwise constitute part of the decisional record. Comments should be submitted to the Secretary, U.S. Nuclear Regulatory Commission, Washington, DC 20555-0001, Attention: Rulemakings and Adjudications Staff, and should cite the publication date and page number of this Federal Register notice.

IV. Further Information

For further details with respect to this action, see the application dated January 19, 2007, and supplements dated; February 23, 2007, and March 2, 2007, available for public inspection at the Commission's Public Document Room (PDR), located at One White Flint North, Public File Area O1 F21, 11555 Rockville Pike (first floor), Rockville, Maryland. Publicly available records will be accessible electronically from the Agencywide Documents Access and Management System's (ADAMS) Public Electronic Reading Room on the Internet at the NRC Web site, http://www.nrc.gov/reading-rm/adams.html. Persons who do not have access to ADAMS, or who encounter problems in accessing the documents located in ADAMS should contact the NRC PDR Reference staff by telephone at 1-800-397-4209, or 301-415-4737, or via e-mail to pdr@nrc.gov.

Dated at Rockville, Maryland this 23rd day of March 2007.
For the Nuclear Regulatory Commission.
Gary S. Janosko,
Deputy Director, Fuel Facility Licensing Directorate, Division of Fuel Cycle Safety and Safeguards, Office of Nuclear Material Safety and Safeguards.

[FR Doc. E7-5937 Filed 3-29-07; 8:45 am]

BILLING CODE 7590-01-P